COUNCIL ON ENVIRONMENTAL QUALITY

The National Environmental Policy Act—Citizen's Guide

AGENCY: Council on Environmental Quality.

ACTION: Notice and request for comments.

SUMMARY: The Council on Environmental Quality (CEQ) developed a Citizen's Guide to the National Environmental Policy Act (NEPA). This is a guide to help citizens and organizations who are concerned about the environmental effects of federal decision-making to effectively participate in federal agencies' environmental review process under NEPA. CEQ invites comments on the proposed “A Citizen's Guide to the National Environmental Policy Act—Having your Voice Heard” that is available from CEQ or at www.NEPA.gov in the Current Developments section.

DATES: Written comments should be submitted on or before March 30, 2007.

ADDRESSES: Hardcopies of the proposed guide can be requested from CEQ. Electronic or facsimile requests for a copy of the proposed guide and comments on the proposed guide are preferred because federal offices experience intermittent mail delays from security screening. Electronic requests and written comments can be sent to NEPA Modernization (Citizen's Guide) at horst_greczmiel@ceq.eop.gov. Written requests and comments may be faxed to NEPA Modernization (Citizen's Guide) at (202) 456-0753. Written requests and comments may also be submitted to NEPA Modernization (Citizen's Guide), Attn: Associate Director for NEPA Oversight, 722 Jackson Place, NW., Washington DC 20503.

FOR FURTHER INFORMATION CONTACT: Horst Greczmiel, 202-395-5750.

SUPPLEMENTARY INFORMATION: The Council on Environmental Quality (CEQ) established a National Environmental Policy Act (NEPA) Task Force and is now implementing recommendations designed to modernize the implementation of NEPA and make the NEPA process more effective and efficient. Additional information is available on the task force Web site at http://ceq.eh.doe.gov/ntf.

The proposed guide, “A Citizen's Guide to the National Environmental Policy Act—Having your Voice Heard” was developed to explain the National Environmental Policy Act and the various types of environmental analyses federal agencies conduct prior to making federal decisions. In addition to an introduction to NEPA, the Guide explains the environmental impact statement (EIS), environmental assessment (EA), and categorical exclusion (CE) processes federal agencies use to comply with NEPA.

The Guide is intended to assist citizens in providing effective and timely input and comments when federal agencies use an EIS, EA, or CE. The Guide recognizes that comments can be the most important contribution from citizens and provides advice on how citizens can get involved in the NEPA process and how their comments can be made effectively.

Public comments are requested by March 30, 2007.

Dated: February 13, 2007.
James L. Connaughton,
Chairman, Council on Environmental Quality.

[FR Doc. E7-2854 Filed 2-20-07; 8:45 am]

BILLING CODE 3125-W7-P